DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Names for Federal Register Publication

• Battle, John Associate Director, Resource Management OFAC

• Baukol, Andy P., Deputy Assistant Secretary for Mid-East and Africa

• Banks, Carol, Director, Office of Accounting and Internal Controls

• Berry, Elizabeth, Treasury Attaché

• Blair, Anita K., Deputy Assistant Secretary for Human Resources and Chief Human Capital Officer

• Cavella, Charles J., Deputy Assistant Secretary for Security

• Cole, Lorraine, Director, Office of Minority and Women Inclusion

• Conrath, Kristine, Deputy Assistant Secretary for Fiscal Operations and Policy

• Coley, Anthony, Deputy Assistant Secretary for Public Affairs

• Cooper, Iris, Senior Procurement Executive

• Dohner, Robert S., Deputy Assistant Secretary for South and East Asia

• Fagan, John, Director, Markets Room

• Gatjanis, Gregory, Associate Director, Office of Global Targetting

• Harvey, Mariam G., Associate Chief Human Capital Officer for Civil Rights and Diversity

• Hunt, Jennifer, Deputy Assistant Secretary Microeconomic Analysis

• Jermano, Jill, Director, Office of Transnational Issues

• Kershbaum, Sharon, Deputy Assistant Secretary for Management & Budget

• Koide, Melissa, Deputy Assistant Secretary for the Office of Consumer Policy

• Kowalski, Theodore, Director Office of Grants and Asset Management

• Mathiasen, Karen, Director Office of Multilateral Development Bank

• McCubbin, Janet, Director for Individual Taxation

• McDonald, William L., Deputy Assistant Secretary for Technical Assistance Policy

• Monroe, David J., Director, Office of Fiscal Projections

• Nolan, Dennis, Deputy Director CDFI

• Ostrowski, Nancy, Director, Office of D.C. Pensions

• Pabotoy, Barbara, Associate Chief Human Capital Officer for Executive & Human Capital Services

• Rasetti, Lorenzo, Chief Financial Officer for Office of Financial Stability

• Roth, Dorrice, Deputy Chief Financial Officer

• Singh, Daleep, Deputy Assistant Secretary for Europe and Asia

• Skud, Timothy, Deputy Assistant Secretary Tax, Trade & Tariff Policy

• Sobel, Mark D., Deputy Assistant Secretary for International Monetary and Financial Policy

• Tran, Luyen, Director, Mid-East and North Africa

DATES: Effective Date: Membership is effective on the date of this notice.

FOR FURTHER INFORMATION CONTACT: Mario R. Minor, Senior HRS, 1500 Pennsylvania Avenue NW., ATTN: Room 6W529, 6th Floor, Washington, DC 20220, Telephone: 202-622-0774.

This notice does not meet the Department's criteria for significant regulations.

Dated: October 8, 2014.
Barbara B. Pabotoy,
Associate Chief Human Capital Officer, Human Capital Services.

[FR Doc. 2014-24577 Filed 10-15-14; 8:45 am]

BILLING CODE 4810-25-P